DEPARTMENT OF COMMERCE

National Institute of Standards and Technology

[Docket Number: 150501413-5413-01]

Manufacturing Extension Partnership State Competitions and Regional Forums

AGENCY: National Institute of Standards and Technology, Commerce.

ACTION: Notice.

SUMMARY: The National Institute of Standards and Technology (NIST) announces that the Hollings Manufacturing Extension Partnership Program (MEP) intends to publish and post two (2) separate announcements of funding availability for MEP Centers in calendar year 2016. The list of specific states that will be involved in the competitions will be posted on the NIST MEP Web site at: http://www.nist.gov/mep/. The funding announcements will be provided both in the Federal Register and on Grants.gov. Prior to or in conjunction with each publication, MEP will conduct approximately two to three Regional Forums.

DATES: The two separate announcements of funding availability are expected to be published and posted in January 2016 and July 2016, respectively. The Regional Forums will take place prior to or in conjunction with each publication, with notification to the public posted at: www.nist.gov/mep/.

ADDRESS: The FRNs will be published in the Federal Register at https://www.federalregister.gov/, and the FFOs will be posted on http://www.grants.gov. More information about MEP and past funding opportunities may be obtained from the MEP Web site: www.nist.gov/mep/.

FOR FURTHER INFORMATION CONTACT: Diane Henderson, Manufacturing Extension Partnership, National Institute of Standards and Technology, 100 Bureau Drive, Mail Stop 4800, Gaithersburg, Maryland 20899-4800, telephone number (301) 975-5105, email: mepffo@nist.gov.

SUPPLEMENTARY INFORMATION: NIST MEP, through a state-federal network of 60 centers and 1,200 manufacturing experts, helps small and medium-sized manufacturers across the country to improve their production processes, upgrade their technological capabilities, and bring new products to market. MEP helps small and medium-sized manufacturers compete, thereby increasing employment and investment across the country and generating a high return on public investment.

Every dollar of federal investment in the MEP translates into $19 of new sales for small and medium-sized manufacturers, or almost $2.5 billion annually across the 30,000 small and medium-sized manufacturers that MEP serves. See http://www.nist.gov/mep/about/index.cfm and http://www.nist.gov/mep/about-impact.cfm. Since it was founded in 1988, MEP has worked with nearly 80,000 manufacturers, leading to $88 billion in sales and $14 billion in cost savings, and helping small manufacturers create more than 729,000 new jobs. See http://www.nist.gov/mep/about/index.cfm.

The MEP program is in the process of a multi-year effort to conduct full and open competitions to select operators for MEP centers. On August 1, 2014, NIST launched the first round of competitions for MEP centers in 10 states, focusing on states where the MEP investment in terms of dollars per manufacturing establishment was below its national average, making them the most underfunded of MEP's 60 centers. See 79 FR 44746 (Aug. 1, 2014). In February 2015, NIST MEP awarded cooperative agreements with start dates of July 1, 2015, to winning applicants in each of the 10 states.

On March 9, 2015, NIST announced funding opportunities in 12 states, with an application deadline of June 1, 2015. See 80 FR 12451 (March 9, 2015); http://www.grants.gov/web/grants/search-grants.html?keywords=NIST MEP. The primary objective of these competitions is to optimize the impact of the Federal investment on U.S. manufacturing and to allocate additional funds to areas with higher concentrations of manufacturers. Non-profit organizations, including public and private nonprofit organizations, nonprofit or State colleges and universities, public or nonprofit community and technical colleges, and State, local or Tribal governments, are eligible to apply for a NIST cooperative agreement for the operation of an MEP Center. In turn, MEP Centers work directly with small and medium-sized manufacturers to expand the range of growth, innovation, lean production, supply chain innovation, technology acceleration and workforce development offered to small and medium-sized manufacturers. In addition to a continued focus on growing all sectors of U.S. manufacturing, it is expected that an increased emphasis will be given to offering these services to very small firms, rural firms, and start-up firms. The competitions provide an opportunity to expand the number of small and medium-sized manufacturers served by the network and to align the program activities with the strategic goals of the states.

The benefits of competition include:

○ Opportunity to realign MEP center activities with State economic development strategies;

○ Resetting of NIST MEP funding levels by State to reflect the regional importance of manufacturing and the national distribution of manufacturing activities;

○ Reduction and simplification of reporting requirements; and

○ Five-year awards reducing the annual paperwork burden.

It should be noted that the MEP Program is not a Federal research and development program. It is not the intent of the program that awardees will perform systematic research. To learn more about the MEP Program, please go to http://www.nist.gov/mep/.

NIST MEP anticipates announcing the competitions for approximately eleven (11) states in January 2016, with new MEP Center cooperative agreement awards anticipated to start in October 2016. NIST MEP anticipates announcing the competitions for an additional eleven (11) states in July 2016, with new MEP Center cooperative agreement awards anticipated to start in April 2017. The proposed list of states for the January 2016 and July 2016 announcements of funding availability will be posted on the MEP Web site at http://www.nist.gov/mep/. The list of specific states may change from time to time until finalized in the announcements of funding availability.

This notice contains information based on the current planning for NIST MEP's activities in calendar year 2016, with the competitions expected to be completed by December 2016. NIST reserves the discretion to add and/or remove states from the list of states participating in the MEP competitions. The final list of states participating in each of the MEP Center competitions and the funding amounts available will be published in the announcements of funding availability that will be published in the Federal Register and posted simultaneously on www.grants.gov.

In addition to issuing the two announcements of funding availability described above, NIST MEP intends to conduct approximately two to three regional forums prior to or in conjunction with each publication of these announcements. These forums will provide general information regarding MEP and offer general guidance on preparing proposals. NIST/MEP staff will be available at the forums to answer general questions. During the forums, proprietary technical discussions about specific project ideas will not be permitted. Also, NIST/MEP staff will not critique or provide feedback on any project ideas during the forums or at any time before submission of a proposal to MEP. However, NIST/MEP staff will provide information about business model approaches, developing proposals and sharing lessons learned from the 2015 MEP competition. NIST/MEP staff will also discuss the MEP eligibility and cost-sharing requirements, evaluation criteria and selection factors, selection process, and the general characteristics of a competitive MEP proposal.

Once specific dates, locations and agendas have been identified for each of these Regional Forums, NIST MEP will post this information on its public Web site, http://www.nist.gov/mep/.

Kevin Kimball,
Chief of Staff.

[FR Doc. 2015-11256 Filed 5-8-15; 8:45 am]

BILLING CODE 3510-13-P